DEPARTMENT OF THE INTERIOR

Office of Surface Mining Reclamation and Enforcement

30 CFR Parts 773, 780, 784 and 800

RIN 1029-AC05

Bonding and Other Financial Assurance Mechanisms for Treatment of Long-Term Pollutional Discharges and Acid/Toxic Mine Drainage (AMD) Related Issues

AGENCY: Office of Surface Mining Reclamation and Enforcement, Interior.

ACTION: Advance notice of proposed rulemaking; extension of comment period.

SUMMARY: We are extending the comment period for the advance notice of proposed rulemaking (ANPRM) published in the May 17, 2002, Federal Register. The comment period was originally scheduled to close on July 16, 2002, and is now being extended for 90 days. In the ANPRM, we are seeking comments on what types of financial guarantees will best ensure adequate funding for the treatment of unanticipated long-term pollutional discharges, including acid or toxic mine drainage (collectively referred to as AMD), that develop as a result of surface coal mining operations.

DATES: To ensure consideration, we must receive your comments on or before October 15, 2002.

ADDRESSES: You may mail or hand carry comments to the Office of Surface Mining Reclamation and Enforcement, Administrative Record, Room 101, 1951 Constitution Avenue, NW, Washington, DC 20240.

FOR FURTHER INFORMATION CONTACT: Ruth Stokes, Program Support Directorate, Office of Surface Mining Reclamation and Enforcement, on 202-208-2611.

SUPPLEMENTARY INFORMATION: In response to requests from three parties, we are extending the public comment period for the proposed rule published on May 17, 2002 (67 FR 35071). In the ANPRM, we are seeking comments on what types of financial guarantees will best ensure adequate funding for the treatment of unanticipated long-term pollutional discharges, including acid or toxic mine drainage (collectively referred to as AMD), that develop as a result of surface coal mining operations. Specifically, we are interested in views from all parties on how we can best address the proper level of treatment and number of years to use in calculating financial assurance amounts for AMD, appropriate financial mechanisms to cover treatment costs, and suggestions on appropriate enforcement in cases where financial assurance is not fully adequate for the long term, but AMD is still being treated. Also, we invite comment on whether codification of our AMD policy statement would be helpful. We are extending the comment period to allow additional time for all interested parties to participate in formulating ideas and approaches on ways to address this important issue.

Dated: July 3, 2002.
Mary Josie Blanchard,
Assistant Director, Program Support.

[FR Doc. 02-17892 Filed 7-15-02; 8:45 am]

BILLING CODE 4310-05-P